OFFICE OF THE UNITED STATES TRADE REPRESENTATIVE

Notification of U.S.-Korea Free Trade Agreement Labor Council Meeting

AGENCY: Office of the United States Trade Representative.

ACTION: Notice and request for comments.

SUMMARY: Under the United States-Korea Free Trade Agreement (KORUS), the United States and Republic of Korea (Parties) intend to hold a virtual meeting of the Labor Council on April 25-26, 2022. The session will include a government-to-government Labor Council meeting on April 25, 2022, and a virtual public session on implementation of the KORUS labor chapter on April 26, 2022. The Office of the United States Trade Representative (USTR) and the U.S. Department of Labor (DOL) seek questions from the public in advance of the public session.

DATES:

April 18, 2022: Information on how to register for the public session will be posted on the USTR and DOL websites noted in the Addresses section below, and registration to attend the public session will open.

April 20, 2022, 5:00 p.m. ET: Deadline for submission of questions for the public session. Attendees also will be given an opportunity to ask questions through a live-chat function during the event.

April 24, 2022: Registration for the public session will close.

April 25, 2022: The Parties will hold a government-to-government session.

April 26, 2022, 8:00 p.m. to 9:00 p.m. ET: The Parties will host a virtual public session regarding the implementation of Chapter 19 of the KORUS.

ADDRESSES: Submit written questions with the subject line `KORUS Labor Council Meeting' to Donna Chung, Director for Labor Affairs, USTR by email to MBX.USTR.Labor@ustr.eop.gov; and Sarah Casson at the Division of Monitoring and Enforcement, Office of Trade and Labor Affairs, Bureau of International Labor Affairs, DOL by email to ILAB-Outreach@DOL.gov.

FOR FURTHER INFORMATION CONTACT: Donna Chung, Director for Labor Affairs, USTR by email to MBX.USTR.Labor@ustr.eop.gov, or by phone 202-395-2870; and Sarah Casson at the Division of Monitoring and Enforcement, Office of Trade and Labor Affairs, Bureau of International Labor Affairs, DOL by email to ILAB-Outreach@DOL.gov, or by phone 202-693-2960.

SUPPLEMENTARY INFORMATION:

I. Background

Article 19.5 of the KORUS establishes a Labor Council composed of senior government representatives from the Parties' labor ministries and other appropriate agencies or ministries. Pursuant to the Article, the Council met within the first year after the KORUS entered into force. This will be the second meeting of the Council under the KORUS.

The Labor Council may consider any matter within the scope of the implementation of Chapter 19 (Labor), including activities of the Labor Cooperation Mechanism established under Article 19.6. Unless the Parties otherwise agree, each meeting of the Council will include a session in which members of the Council have an opportunity to meet with the public to discuss matters related to the implementation of Chapter 19. Formal decisions of the Council will be made public, unless the Council decides otherwise. The Council may prepare reports on matters related to the implementation of Chapter 19 and will make such reports public.

The Labor Council meeting will include a virtual government-to-government session to discuss the Parties' Chapter 19 (Labor) obligations, and a virtual public session. The government-to-government session will not be open to the public.

II. Public Session on KORUS FTA Chapter 19 Implementation

The Labor Council invites members of the public to attend a virtual public session on April 26, 2022, from 8:00 p.m. to 9:00 p.m. ET, to address the implementation of Chapter 19 (Labor) of the KORUS. In addition to the questions received in advance of the public session, the Labor Council will welcome questions concerning the implementation of Chapter 19 obligations through a live-chat function during the event. Details on how to access the public session will be made available by April 18, 2022, on the USTR website at https://ustr.gov/issue-areas/labor, and on the DOL website at https://www.dol.gov/agencies/ilab/our-work/trade/agreements/upcoming-fta-labor-meetings.

III. Comments

DOL and USTR invite specific questions that could be addressed at the public session. When preparing questions or comments, we encourage submitters to refer to Chapter 19 of the KORUS (https://ustr.gov/sites/default/files/uploads/agreements/fta/korus/asset_upload_file934_12718.pdf).

Joshua Kagan,
Assistant U.S. Trade Representative for Labor Affairs Office of the United States Trade Representative.

[FR Doc. 2022-07895 Filed 4-12-22; 8:45 am]

BILLING CODE 3290-F2-P